DEPARTMENT OF ENERGY

Federal Energy Regulatory Commission

Combined Notice of Filings #1

Take notice that the Commission received the following electric corporate filings:

Docket Numbers: EC20-39-000.

Applicants: Upstream Wind Energy LLC.

Description: Application for Authorization Under Section 203 of the Federal Power Act, et al. of Upstream Wind Energy LLC.

Filed Date: 2/18/20.

Accession Number: 20200218-5135.

Comments Due: 5 p.m. ET 3/10/20.

Take notice that the Commission received the following electric rate filings:

Docket Numbers: ER18-2513-003.

Applicants: Midcontinent Independent System Operator, Inc.

Description: Compliance filing: 2020-02-18 Compliance Filing to Address Self-Fund to be effective 6/24/2015.

Filed Date: 2/18/20.

Accession Number: 20200218-5091.

Comments Due: 5 p.m. ET 3/10/20.

Docket Numbers: ER19-1864-002.

Applicants: Public Service Company of Colorado.

Description: Compliance filing: OATT_Att N-LGIP-Order 845 Compliance to be effective 5/22/2019.

Filed Date: 2/18/20.

Accession Number: 20200218-5108.

Comments Due: 5 p.m. ET 3/10/20.

Docket Numbers: ER19-1948-002.

Applicants: PacifiCorp.

Description: Compliance filing: OATT Order 845—Compliance (per 12.19.19) to be effective 5/22/2019.

Filed Date: 2/14/20.

Accession Number: 20200214-5137.

Comments Due: 5 p.m. ET 3/6/20.

Docket Numbers: ER19-1955-002.

Applicants: Public Service Company of New Mexico.

Description: Compliance filing: Order No. 845 Compliance Filing to be effective 5/22/2018.

Filed Date: 2/14/20.

Accession Number: 20200214-5225.

Comments Due: 5 p.m. ET 3/6/20.

Docket Numbers: ER19-1955-003.

Applicants: Public Service Company of New Mexico.

Description: Compliance filing: Order No. 845 Compliance Filing to be effective 5/22/2019.

Filed Date: 2/18/20.

Accession Number: 20200218-5000.

Comments Due: 5 p.m. ET 3/10/20.

Docket Numbers: ER19-1957-002.

Applicants: Alabama Power Company.

Description: Compliance filing: Order No. 845 and 845-A Compliance Filing to be effective 5/22/2019.

Filed Date: 2/18/20.

Accession Number: 20200218-5198.

Comments Due: 5 p.m. ET 3/10/20.

Docket Numbers: ER20-1018-000.

Applicants: Gateway Energy Storage, LLC.

Description: § 205(d) Rate Filing: Revised Market-Based Rate Tariff to be effective 2/15/2020.

Filed Date: 2/14/20.

Accession Number: 20200214-5212.

Comments Due: 5 p.m. ET 3/6/20.

Docket Numbers: ER20-1019-000.

Applicants: Ashtabula Wind, LLC.

Description: Tariff Cancellation: Ashtabula Wind, LLC Notice of Cancellation of Market-Based Rate Tariff to be effective 2/18/2020.

Filed Date: 2/18/20.

Accession Number: 20200218-5001.

Comments Due: 5 p.m. ET 3/10/20.

Docket Numbers: ER20-1020-000.

Applicants: Story Wind, LLC.

Description: Tariff Cancellation: Story Wind, LLC Notice of Cancellation of Market-Based Rate Tariff to be effective 2/18/2020.

Filed Date: 2/18/20.

Accession Number: 20200218-5002.

Comments Due: 5 p.m. ET 3/10/20.

Docket Numbers: ER20-1021-000.

Applicants: NorthWestern Corporation.

Description: § 205(d) Rate Filing: SA 889—EP&C Agreement with Idaho Power Company to be effective 2/18/2020.

Filed Date: 2/18/20.

Accession Number: 20200218-5017.

Comments Due: 5 p.m. ET 3/10/20.

Docket Numbers: ER20-1022-000.

Applicants: PacifiCorp.

Description: § 205(d) Rate Filing: BPA Construction Agreement (Summer Lake CB & SCADA) Rev 1 to be effective 4/2/2020.

Filed Date: 2/18/20.

Accession Number: 20200218-5018.

Comments Due: 5 p.m. ET 3/10/20.

Docket Numbers: ER20-1023-000.

Applicants: Mankato Energy Center, LLC.

Description: § 205(d) Rate Filing: Revised Market-Based Rate Tariff and Affiliate Sales Authorization to be effective 1/17/2020.

Filed Date: 2/18/20.

Accession Number: 20200218-5104.

Comments Due: 5 p.m. ET 3/10/20.

Docket Numbers: ER20-1024-000.

Applicants: Mankato Energy Center II, LLC.

Description: § 205(d) Rate Filing: Revised Market-Based Rate Tariff and Affiliate Sales Authorization to be effective 1/17/2020.

Filed Date: 2/18/20.

Accession Number: 20200218-5106.

Comments Due: 5 p.m. ET 3/10/20.

Docket Numbers: ER20-1025-000.

Applicants: ISO New England Inc.

Description: Fourteenth Forward Capacity Auction Results of ISO New England Inc.

Filed Date: 2/18/20.

Accession Number: 20200218-5132.

Comments Due: 5 p.m. ET 4/3/20.

Docket Numbers: ER20-1026-000.

Applicants: Southern California Edison Company.

Description: § 205(d) Rate Filing: Amended IFA High Desert Power Project, LLC SA No. 11 to be effective 4/19/2020.

Filed Date: 2/18/20.

Accession Number: 20200218-5161.

Comments Due: 5 p.m. ET 3/10/20.

Docket Numbers: ER20-1027-000.

Applicants: Tri-State Generation and Transmission Association, Inc.

Description: § 205(d) Rate Filing: Filing of Rate Schedule FERC No. 264 among Tri-State, PacifiCorp and WAPA to be effective 1/3/2020.

Filed Date: 2/18/20.

Accession Number: 20200218-5185.

Comments Due: 5 p.m. ET 3/10/20.

Docket Numbers: ER20-1028-000.

Applicants: Midcontinent Independent System Operator, Inc.

Description: § 205(d) Rate Filing: 2020-02-18_SA 3166 Ameren Illinois-Cardinal Point 2nd Rev GIA (J456) to be effective 1/31/2020.

Filed Date: 2/18/20.

Accession Number: 20200218-5192.

Comments Due: 5 p.m. ET 3/10/20.

Docket Numbers: ER20-1029-000.

Applicants: PJM Interconnection, L.L.C.

Description: § 205(d) Rate Filing: Original ISA, SA No. 5562 and ICSA, SA No.5563; Queue No. AB2-032/AB2-153 to be effective 1/16/2020.

Filed Date: 2/18/20.

Accession Number: 20200218-5199.

Comments Due: 5 p.m. ET 3/10/20.

Docket Numbers: ER20-1030-000.

Applicants: Northern Pass Transmission LLC.

Description: Tariff Cancellation: Termination of Transmission Service Agreement to be effective 9/6/2019.

Filed Date: 2/18/20.

Accession Number: 20200218-5200.

Comments Due: 5 p.m. ET 3/10/20.

Docket Numbers: ER20-1031-000.

Applicants: Northern Pass Transmission LLC.

Description: § 205(d) Rate Filing: Section 205 Request For Approval Of Cost Reimbursement to be effective 4/19/2020.

Filed Date: 2/18/20.

Accession Number: 20200218-5206.

Comments Due: 5 p.m. ET 3/10/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 18, 2020.
Nathaniel J. Davis, Sr.,
Deputy Secretary.

[FR Doc. 2020-03566 Filed 2-21-20; 8:45 am]

BILLING CODE 6717-01-P